Proclamation 9263 of April 30, 2015

National Foster Care Month, 2015

By the President of the United States of America

A Proclamation

At the heart of the American story is the simple truth that all children should have a fair chance at success, no matter who they are or where they come from. Central to this promise of opportunity are the love and support of family—which all girls and boys deserve, but not enough have. During National Foster Care Month, we recommit to caring for all our Nation's daughters and sons, and we reaffirm our basic belief: in America, there is a place for everyone, and no young person should feel like they are on their own.

Over the last decade, our Nation has made significant progress in reducing the number of young people in foster care, but we have more work to do to ensure all children can thrive in a safe and nurturing environment. Today, there are over 400,000 boys and girls in our foster care system. More than 100,000 of them are waiting to be adopted, and every year, 23,000 young people age out of the system—never having found the security of a permanent home. There also continue to be disproportionate numbers of African-American and Native American youth in the foster care system, compounding the disparities these communities too often face.

All young people, regardless of what they look like, which religion they follow, who they love, or the gender they identify with, deserve the chance to dream and grow in a loving, permanent home. When our Nation's daughters and sons lack stable homes and strong support structures, they face enormous barriers to reaching their fullest potential—difficulties no child should have to experience, especially not on their own. And those who age out of the foster care system often face obstacles as they transition into adulthood, including challenges completing their education, remaining financially secure, and staying out of the justice system.

My Administration is committed to expanding what is possible for all our Nation's children and empowering them to overcome every challenge they face. From day one, we have been working to create a better, more-supportive foster care system, and we have taken steps to increase the safety, permanency, and well-being of America's children. Last year, we announced new initiatives to help protect the financial security of foster youth, expand their opportunities for education and employment, and keep them out of the justice system. We are partnering with State and tribal leaders to support innovative strategies that strengthen families, improve the foster care system, and prevent children from entering it in the first place, and each day we continue the fight to secure every child's right to earn their piece of the American dream.

We know that children are best raised in families, not institutions. And each year, men and women of all backgrounds open their homes and hearts to foster children. These selfless individuals step up and serve as loving parents and family members and dedicated teachers, mentors, caseworkers, and faith leaders—helping foster children realize their highest aspirations despite the great odds stacked against them. My Administration is striving to bolster all those who support foster children by providing the resources and assistance they need. With so many children waiting for loving homes, it is important to ensure all qualified caregivers have the opportunity to serve as foster or adoptive parents, regardless of race, religion, sexual orientation, gender identity, or marital status. That is why we are working to break down the barriers that exist and investing in efforts to recruit more qualified parents for children in foster care.

In the face of often unimaginable challenges, foster children demonstrate extraordinary courage and determination. Their resolve reminds us that we have obligations to them and to one another, and that we all share in the responsibility of lifting up our Nation's youth. This month, we honor these young people and all those who dedicate themselves to making a difference in the lives of girls and boys in foster care. Let us each recognize the large and small ways we can brighten the future of a foster child this month and every month, and together let us reach for the day when everyone knows the love and safety of a permanent home.

NOW, THEREFORE, I, BARACK OBAMA, President of the United States of America, by virtue of the authority vested in me by the Constitution and the laws of the United States, do hereby proclaim May 2015 as National Foster Care Month. I call upon all Americans to observe this month by taking time to help youth in foster care and recognizing the commitment of all who touch their lives.

IN WITNESS WHEREOF, I have hereunto set my hand this thirtieth day of April, in the year of our Lord two thousand fifteen, and of the Independence of the United States of America the two hundred and thirty-ninth.

[FR Doc. 2015-10647

Filed 5-4-15; 8:45 am]

Billing code 3295-F5